DEPARTMENT OF HOMELAND SECURITY

Transportation Security Administration

[Docket No. TSA-2009-0018]

Revision of Agency Information Collection Activity Under OMB Review: Certified Cargo Screening Standard Security Program

AGENCY: Transportation Security Administration, DHS.

ACTION: 30-Day notice.

SUMMARY: This notice announces that the Transportation Security Administration (TSA) has forwarded the Information Collection Request (ICR), Office of Management and Budget (OMB) control number 1652-0053, abstracted below to OMB for a revision in compliance with the Paperwork Reduction Act. The ICR describes the nature of the information collection and its expected burden. TSA is seeking the revision of the Certified Cargo Screening Standard Security Program ICR by including a new Certified Cargo Screening Facility (CCSF) under the Third-Party Canine-Cargo (3PK9-C) Program, in order to secure passenger aircraft carrying cargo.

DATES: Send your comments by August 1, 2019. A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to dhsdeskofficer@omb.eop.gov.

FOR FURTHER INFORMATION CONTACT: Christina A. Walsh, TSA PRA Officer, Information Technology (OIT), TSA-11, Transportation Security Administration, 601 South 12th Street, Arlington, VA 20598-6011; telephone (571) 227-2062; email TSAPRA@tsa.dhs.gov.

SUPPLEMENTARY INFORMATION: TSA published a Federal Register notice, with a 60-day comment period soliciting comments, of the following collection of information on December 13, 2018, 80 FR 74786.

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Consistent with the requirements of Executive Order (E.O.) 13771, Reducing Regulation and Controlling Regulatory Costs, and E.O. 13777, Enforcing the Regulatory Reform Agenda, TSA is also requesting comments on the extent to which this request for information could be modified to reduce the burden on respondents.

Information Collection Requirement

Title: Certified Cargo Screening Standard Security Program.

Type of Request: Revision of one currently approved ICR.

OMB Control Number: 1652-0053.

Forms(s): The forms used for this collection of information include Letter of Intent (TSA Form 419A); CCSF Profile Application (TSA Form 419B); Department of Homeland Security, Non-Disclosure Agreement (TSA Form 419C); CCSF Principal Attestation (TSA Form 419D); CCSF Security Profile (TSA Form 419E); and the Security Threat Assessment Application (TSA Form 419F).

Affected Public: The collections of information that make up this ICR involve entities other than aircraft operators and include facilities upstream in the air cargo supply chain, such as shippers, manufacturers, warehousing entities, distributors, third party logistics companies, indirect air carriers and 3PK9 Certifiers located in the United States.

Abstract: TSA is seeking continued approval from OMB for the collection of information contained in the ICR. Section 1602 of the Implementing Recommendations of the 9/11 Commission Act of 2007 ¹ (9/11 Act) required the development of a system to screen 100 percent of such cargo no later than August 2010. This requirement was implemented through TSA's regulations, including amendments to 49 CFR parts 1515, 1520, 1540, 1544, 1546, 1548, and adding part 1549. See 76 FR 51848 (Aug. 18, 2011). As required by 49 CFR part 1549, TSA certifies qualified facilities as CCSFs to screen cargo under the of the Certified Cargo Screening Program (CCSP).

¹ Public Law 110-53; 121 Stat. 266 (Aug. 3, 2007), codified at 49 U.S.C. 44901(g).

In this ICR, TSA is revising the collection to include a new Certified Cargo Screening Facility (CCSF) under the 3PK9-C Program, in order to assist with the mandate of 100 percent screening of air cargo. Section 1941 of the TSA Modernization Act ² amended provision in the 9/11 Act to require TSA to develop a program to enhance screening of air cargo by leveraging the capabilities of third-party explosives detection canine teams. To meet this requirement, TSA created the 3PK9-C program as an additional air cargo screening method under 49 CFR part 1549.

² Division K of the FAA Reauthorization Act of 2018, Public Law 115-254; Stat. 132-3186 (Oct. 6, 2018).

Persons seeking to become a CCSF are required to submit an application to TSA before commencing operations. Facilities-based CCSFs are required to submit information about the technologies that will be used to screen cargo. CCSF-K9s are required to submit an Operational Implementation Plan that provides relevant details regarding the intended scope of their operations. Prior to certification, TSA will conduct an assessment of the CCSF for approval. Persons interested in becoming 3PK9-C Certifiers must provide information related to their qualifications.

Once certified, the CCSF must operate in accordance with a TSA-approved security program or order. CCSFs must also collect personal identifiable information to submit to TSA so that TSA can conduct security threat assessments on individuals with unescorted access to cargo and those who have responsibility for screening cargo under title 49 CFR parts 1544, 1546, 1548, and 1549. CCSFs must also maintain screening, training, and other security-related records of compliance. Approved 3PK9-C Certifiers must conduct and document certifications of third-party canine teams as required by TSA.

The collection involves: (1) Applications from entities that wish to become CCSFs or 3PK9-C Certifiers; (2) personally identifiable information to allow TSA to conduct security threat assessments (STA) on certain individuals employed by the CCSFs or 3PK9-C Certifiers and those authorized to conduct 3PK9-C Program activities; (3) standard security programs or submission of a proposed modified security program or amendment to a security program by CCSFs, or standards provided by TSA or submission of a proposed modified standard by 3PK9-C Certifiers; (4) recordkeeping requirements for CCSFs and 3PK9-C Certifiers; (5) designation of a Security Coordinator (SC) by CCSFs and 3PK9-C Certifiers; and (6) significant security concerns detailing information of incidents, suspicious activities, and/or threat information by CCSFs and 3PK9-C Certifiers.

Total Estimated Number of Respondents: ³ 2,527.

³ The annual respondent and burden numbers have been updated since the submission of the 60-day notice, which reported, “Collectively, these information collections represent an estimated average of 6,966 respondents annually, for an average annual hour burden of 9,175 hours.”

Total Estimated Annual Burden Hours: 16,189.98 hours annually.

Dated: June 25, 2019.
Christina A. Walsh,
Paperwork Reduction Act Officer, Information Technology.

[FR Doc. 2019-13961 Filed 7-1-19; 8:45 am]

BILLING CODE 9110-05-P